DEPARTMENT OF THE TREASURY

United States Mint

Deadline Extension for CCAC Membership Applications

AGENCY: United States Mint, Treasury.

ACTION: Deadline extension for CCAC membership applications.

SUMMARY: The United States Mint is accepting applications for appointment to the Citizens Coinage Advisory Committee (CCAC) for two positions—an individual who can represent the interests of the general public and an individual specially qualified to serve on the Committee by virtue of his or her education, training, or experience in American history.

The deadline for submitting applications for appointment to the CCAC has been extended from May 9, 2003, to May 23, 2003.

Application Deadline: May 23, 2003.

Receipt of Applications: Any member of the public wishing to be considered for appointment to the Committee should submit a resume or letter describing his or her qualifications for membership by fax to 202-756-6539, or by mail to the United States Mint, 801 9th Street, NW., Washington, DC 20001, Attn: CCAC Membership. Submissions must be postmarked no later than May 23, 2003.

Dated: May 6, 2003.
Henrietta Holsman Fore,
Director, United States Mint.

[FR Doc. 03-11693 Filed 5-9-03; 8:45 am]

BILLING CODE 4810-37-U